DEPARTMENT OF TRANSPORTATION

Federal Aviation Administration

Notice of Intent To Rule on Application (04-05-C-00-ASE) To Impose and Use the Revenue From a Passenger Facility Charge (PFC) at the Aspen/Pitkin County Airport, Submitted by the County of Pitkin, Aspen/Pitkin County Airport, Aspen, CO

AGENCY: Federal Aviation Administration (FAA), DOT.

ACTION: Notice of intent to rule on application.

SUMMARY: The FAA proposes to rule and invites public comment on the application to impose and use PFC revenue at the Aspen/Pitkin County Airport under the provisions of 49 U.S.C. 40117 and Part 158 of the Federal Aviation Regulations (14 CFR 158).

DATES: Comments must be received on or before August 12, 2004.

ADDRESSES: Comments on this application may be mailed or delivered in triplicate to the FAA at the following address: Mr. Craig A. Sparks, Manager, Denver Airports District Office, DEN-ADO; Federal Aviation Administration; 26805 East 68th Avenue, Suite 224; Denver, Colorado 80249-6361.

In addition, one copy of any comments submitted to the FAA must be mailed or delivered to Mr. James P. Elwood, Director of Aviation, at the following address: 0233 East Airport Road, Aspen, Colorado 81611.

Air Carriers and foreign air carriers may submit copies of written comments previously provided to the Aspen/Pitkin County Airport, under § 158.23 of Part 158.

FOR FURTHER INFORMATION CONTACT: Mr. Christopher J. Schaffer, (303) 342-1258 Denver Airports District Office, DEN-ADO; Federal Aviation Administration; 26805 East 68th Avenue, Suite 224; Denver, Colorado 80249-6361. The application may be reviewed in person at this same location.

SUPPLEMENTARY INFORMATION: The FAA proposes to rule and invites public comment on the application (04-05-C-00-ASE) to impose and use PFC revenue at the Aspen/Pitkin County Airport, under the provisions of 49 U.S.C. 40117 and Part 158 of the Federal Aviation Regulations (14 CFR Part 158).

On July 6, 2004, the FAA determined that the application to impose and use the revenue from a PFC submitted by the County of Pitkin, Aspen/Pitkin County Airport, Aspen Colorado, was substantially complete within the requirements of section 158.25 of Part 158. This FAA will approve or disapprove the application, in whole or in part, no later than October 2, 2004. The following is a brief overview of the application.

Level of the proposed PFC: $4.50.

Proposed charge effective date: January 1, 2005.

Proposed charge expiration date: February 1, 2008.

Total requested for use approval: $2,274,164.

Brief description of proposed projects: Aircraft rescue and fire fighting (ARFF)/snow removal equipment (SRE) building design, north general aviation apron, Taxiway A relocation, acquire snow removal equipment, land purchase, and acquisition of a localizer.

Class or classes of air carriers which the public agency has requested not be required to collect PFC's: All air traffic/commercial operators (ATCO) filing FAA Form 1800-31.

Any person may inspect the application in person at the FAA office listed above under FOR FURTHER INFORMATION CONTACT and at the FAA Airports Office located at: Federal Aviation Administration, Northwest Mountain Region, Airports Division, ANM-600, 1601 Lind Avenue SW., Suite 315, Renton, WA 98055-4056.

In addition, any person may, upon request, inspect the application, notice or other documents germane to the application in person at the Aspen/Pitkin County Airport.

Issued in Renton, Washington, on July 6, 2004.
David A. Field,
Manager, Planning, Programming and Capacity Branch, Northwest Mountain Region.

[FR Doc. 04-15849 Filed 7-12-04; 8:45 am]

BILLING CODE 4910-13-M